DEPARTMENT OF TRANSPORTATION

Federal Transit Administration

[FTA Docket No. FTA 2023-0031]

Agency Information Collection Activity Under OMB Review: Public Transportation Safety Program

AGENCY: Federal Transit Administration, Department of Transportation (DOT).

ACTION: Notice of request for comments.

SUMMARY: In compliance with the Paperwork Reduction Act of 1995, this notice announces that the Information Collection Requirements (ICRs) abstracted below have been forwarded to the Office of Management and Budget (OMB) for review and comment. The ICR describe the nature of the information collection and their expected burdens for the Public Transportation Safety Program.

DATES: Comments must be submitted on or before January 10, 2024.

ADDRESSES: Written comments and recommendations for the proposed information collection should be sent within 30 days of publication of this notice to https://www.reginfo.gov/public/do/PRAMain. You can find this particular information collection by selecting “Currently under 30-day Review—Open for Public Comments” or by using the search function.

Comments are invited on: Whether the proposed collection of information is necessary for the proper performance of the functions of the Department, including whether the information will have practical utility, the accuracy of the Department's estimate of the burden of the proposed information collection: ways to enhance the quality, utility, and clarity of the information to be collected; and ways to minimize the burden of the collection of information on respondents, including the use of automated collection techniques or other forms of information technology. A comment to OMB is best assured of having its full effect if OMB receives it within 30 days of publication of this notice in the Federal Register.

FOR FURTHER INFORMATION CONTACT: Tia Swain, Office of Administration, Management Planning Division, 1200 New Jersey Ave. SE, Mail Stop TAD-10, Washington, DC 20590; (202) 366-0354 or tia.swain@dot.gov.

SUPPLEMENTARY INFORMATION: The Paperwork Reduction Act of 1995 (PRA), Public Law 104-13, Section 2, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), 1320.12. On July 6, 2023, FTA published a 60-day notice (88 FR 43167) in the Federal Register soliciting comments on the ICR that the agency was seeking OMB approval. FTA received no comments after issuing this 60-day notice. Accordingly, DOT announces that these information collection activities have been re-evaluated and certified under 5 CFR 1320.5(a) and forwarded to OMB for review and approval pursuant to 5 CFR 1320.12(c). Before OMB decides whether to approve these proposed collections of information, it must provide 30 days for public comment. 44 U.S.C. 3507(b); 5 CFR 1320.12(d). Federal law requires OMB to approve or disapprove paperwork packages between 30 and 60 days after the 30-day notice is published. 44 U.S.C. 3507 (b)-(c); 5 CFR 1320.12(d); see also 60 FR 44978, 44983. OMB believes that the 30-day notice informs the regulated community to file relevant comments and affords the agency adequate time to digest public comments before it renders a decision. 60 FR 44983. Therefore, respondents should submit their respective comments to OMB within 30 days of publication to best ensure having their full effect. 5 CFR 1320.12(c); see also 60 FR 44983.

The summaries below describe the nature of the information collection requirements (ICRs) and the expected burden. The requirements are being submitted for clearance by OMB as required by the PRA.

Title: Public Transportation Safety Program.

OMB Control Number: 2132-New Information Collection.

Background: Congress directed FTA to establish a comprehensive Public Transportation Safety Program in the Moving Ahead for Progress in the 21st Century Act (Pub. L. 112-141; July 6, 2012) (MAP-21), which was reauthorized by the Fixing America's Surface Transportation Act (Pub. L. 114-94; December 4, 2015). The Bipartisan Infrastructure Law, enacted as the Infrastructure Investment and Jobs Act (Pub. L. 117-58; November 15, 2021), continues FTA's authority to regulate public transportation systems that receive Federal financial assistance under chapter 53. Section 5329(f) of Title 49 U.S.C. authorizes FTA to “require the production of documents by, and prescribe recordkeeping and reporting requirements for, a recipient or a State safety oversight agency” for the purposes of carrying out the Federal Public Transportation Safety Program. FTA is seeking approval of an information collection that will allow FTA to collect safety related data from transit agencies, State Safety Oversight Agencies (SSOAs), and States. FTA will use this information collection to assess how recipients of Federal financial assistance under chapter 53 are complying with FTA safety requirements and recommendations and ensuring safe transportation systems for the riders and patrons using each system, the workers operating each system, and the pedestrians interacting with each system. FTA may also use this collection to assist in determining whether there is a need for new or revised safety requirements. This collection is different from the existing safety related collections associated with the Public Transportation Agency Safety Plan Program (2132-0580), the Public Transportation Safety Certification Training Program (2132-0578), and the State Safety Oversight Program (2132-0558). The aforementioned collections are approved to collect information related to the requirements of those safety programs while this new collection is intended to cover other safety issues, including emerging safety concerns.

The information captured through this data collection will enable FTA to respond to existing safety issues and be proactive to address potential and emerging safety concerns. This information collection is essential to FTA's safety oversight and grant-making roles—both critical to the Agency's mission of improving public transportation for America's communities.

Respondents: Transit agencies, State safety oversight agencies, and States.

Estimated Annual Number of Respondents: 2,477.

Estimated Annual Number of Responses: 4,843.

Estimated Total Annual Burden: 146,940.

Frequency: Periodic.

Nadine Pembleton,
Deputy Associate Administrator, Office of Administration.

[FR Doc. 2023-27075 Filed 12-8-23; 8:45 am]

BILLING CODE 4910-57-P